FEDERAL MARITIME COMMISSION

Ocean Transportation Intermediary License Revocations and Surrenders

The Commission gives notice that the following Ocean Transportation Intermediary licenses have been revoked or surrendered for the reason indicated pursuant to section 19 of the Shipping Act of 1984 (46 U.S.C. 40101) effective on the date shown.

License No.: 018234N.

Name: Savant International Logistics Ltd.

Address: 11 Broadway, Suite 1063, New York, NY 10004.

Date Surrendered: September 26, 2014.

Reason: Voluntary surrender of license.

License No.: 019917NF.

Name: TSL Express, Inc.

Address: 1005 East Las Tunas Drive, Suite 615, San Gabriel, CA 91776.

Date Revoked: September 14, 2014.

Reason: Failed to maintain valid bonds.

License No.: 019595F.

Name: Transnuclear, Inc.

Address: 7135 Minstrel Way, Suite 300, Columbia, MD 21045.

Date Revoked: September 29, 2014.

Reason: Failed to maintain a valid bond.

License No.: 021882N.

Name: Intransia LLC.

Address: 168 Madison Avenue, Suite 600, New York, NY 10016.

Date Surrendered: September 29, 2014.

Reason: Voluntary surrender of license.

License No.: 023396F.

Name: Sterling Relocation Americas Inc.

Address: 187 Danbury Road, Wilton, CT 06897.

Date Revoked: September 22, 2014.

Reason: Failed to maintain a valid bond.

License No.: 023464NF.

Name: Away International USA, LLC.

Address: 1207 NW 93rd Court, Miami, FL 33172.

Date Revoked: September 30, 2014.

Reason: Failed to maintain valid bonds.

License No.: 023569F.

Name: Fachel International LLC dba Fachel Shipping and Logistics.

Address: 6331 Belair Road, Baltimore, MD 21206.

Date Revoked: September 30, 2014.

Reason: Failed to maintain a valid bond.

License No.: 024605F.

Name: Global Trade Associates, Inc.

Address: 5 Mount Royal Avenue, Suite 150, Marlborough, MA 01752.

Date Revoked: September 29, 2014.

Reason: Failed to maintain a valid bond.

Sandra L. Kusumoto,
Director, Bureau of Certification and Licensing.

Pursuant to the Commission's direct rule (79 FR 56522), beginning October 20, 2014, these notices will no longer be posted in the Federal Register. After October 20, 2014, this information will be available on the Commission's Web site at http://www.fmc.gov, see OTI Licensing Updates.

[FR Doc. 2014-24576 Filed 10-15-14; 8:45 am]

BILLING CODE 6730-01-P